CONSUMER PRODUCT SAFETY COMMISSION

16 CFR Parts 1215, 1217 and 1219

Revisions to Safety Standards for Infant Bath Seats, Toddler Beds, and Full-Size Baby Cribs

AGENCY: Consumer Product Safety Commission.

ACTION: Direct final rule.

SUMMARY: In accordance with section 104(b) of the Consumer Product Safety Improvement Act of 2008 (CPSIA), also known as the Danny Keysar Child Product Safety Notification Act, the U.S. Consumer Product Safety Commission (Commission or CPSC) has published consumer product safety standards for numerous durable infant or toddler products, including infant bath seats, toddler beds, and full-size baby cribs. These standards incorporated by reference the ASTM voluntary standards associated with the products, with some modifications. In August 2011, Congress enacted Public Law 112-28, which sets forth a process for updating standards that the Commission has issued under the authority of section 104(b) of the CPSIA. In accordance with that process, the CPSC is publishing this direct final rule, revising the CPSC's standards for infant bath seats, toddler beds, and full-size cribs, to incorporate by reference more recent versions of the applicable ASTM standards.

DATES: The rule is effective on March 24, 2014, unless we receive significant adverse comment by January 8, 2014. If we receive timely significant adverse comments, we will publish notification in the Federal Register, withdrawing this direct final rule before its effective date. The incorporation by reference of the publications listed in this rule is approved by the Director of the Federal Register as of March 24, 2014.

ADDRESSES: You may submit comments, identified by Docket No. CPSC-2013-0043, by any of the following methods:

Submit electronic comments via:

Federal eRulemaking Portal: http://www.regulations.gov. Follow the instructions for submitting comments. The Commission is no longer accepting comments submitted by electronic mail (email), except through www.regulations.gov.

Submit written submissions by:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

FOR FURTHER INFORMATION CONTACT: For information related to the infant bath seat standard, contact: Keysha Walker, Office of Compliance and Field Operations, Consumer Product Safety Commission, 4330 East-West Highway, Bethesda, MD 20814-4408; telephone: (301) 504-6820; email: kwalker@cpsc.gov. For information related to the toddler bed standard, contact Daniel Dunlap, Office of Compliance and Field Operations, Consumer Product Safety Commission, 4330 East-West Highway, Bethesda, MD 20814-4408; telephone: (301) 504-7733; email: ddunlap@cpsc.gov. For information related to the full-size crib standard, contact Justin Jirgl, Office of Compliance and Field Operations, Consumer Product Safety Commission, 4330 East-West Highway, Bethesda, MD 20814-4408; telephone: (301) 504-7814; email: jjirgl@cpsc.gov.

SUPPLEMENTARY INFORMATION:

A. Background

The Danny Keysar Child Product Safety Notification Act. The Consumer Product Safety Improvement Act of 2008 (CPSIA, Pub. L. 110-314) was enacted on August 14, 2008. Section 104(b) of the CPSIA, also known as the Danny Keysar Child Product Safety Notification Act, requires the Commission to promulgate consumer product safety standards for durable infant or toddler products. The law requires that these standards are to be “substantially the same as” applicable voluntary standards or more stringent than the voluntary standards if the Commission concludes that more stringent requirements would further reduce the risk of injury associated with the product. Under the statute, the term “durable infant or toddler product” explicitly includes infant bath seats, toddler beds, and full-size cribs. In accordance with section 104(b), the Commission has published safety standards for these products that incorporate by reference the relevant ASTM standards, with certain modifications that make the voluntary standard more stringent.

Public Law 112-28. On August 12, 2011, Congress enacted Public Law 112-28, amending and revising several provisions of the CPSIA, including the Danny Keysar Child Product Safety Notification Act. The revised provision sets forth a process for updating CPSC's durable infant or toddler standards when a voluntary standard group changes a voluntary standard upon which the CPSC standard was based. This provision states:

If an organization revises a standard that has been adopted, in whole or in part, as a consumer product safety standard under this subsection, it shall notify the Commission. The revised voluntary standard shall be considered to be a consumer product safety standard issued by the Commission under section 9 of the Consumer Product Safety Act (15 U.S.C. 2058), effective 180 days after the date on which the organization notifies the Commission (or such later date specified by the Commission in the Federal Register) unless, within 90 days after receiving that notice, the Commission notifies the organization that it has determined that the proposed revision does not improve the safety of the consumer product covered by the standard and that the Commission is retaining the existing consumer product safety standard.

Public Law 112-28, section 3.

Notification and Review of ASTM Revisions. On September 25, 2013, ASTM notified CPSC of ASTM's approval and publication of revisions to ASTM F1967, Standard Consumer Specification for Infant Bath Seats; ASTM F1821, Standard Consumer Safety Specification for Toddler Beds; and ASTM F1169, Standard Consumer Safety Specification for Full-Size Baby Cribs. In the notification, ASTM stated that ASTM has revised these standards since the Commission adopted the earlier versions of the standards as CPSC mandatory standards.

The Commission has reviewed the revisions. Under Public Law 112-28, the revised standards shall be considered consumer product safety rules, unless the Commission determines and notifies ASTM that these revisions do not improve the safety of these consumer products and that the Commission is retaining the existing standard. The Commission has declined to make such a determination and notification to ASTM with respect to these revisions. Accordingly, we are publishing this direct final rule, which revises the incorporation by reference included in each of these rules so that the Code of Federal Regulations will accurately reflect the revised version of the relevant ASTM standards.

B. Revisions to the Particular ASTM Standards

1. Infant Bath Seats

Background. On June 4, 2010, the Commission published a final rule for infant bath seats that incorporated by reference ASTM F1967-08a, Standard Consumer Specification for Infant Bath Seats, with certain modifications to make the standard more stringent. (75 FR 31691). On May 16, 2012, ASTM notified the CPSC that ASTM had approved and published a revised version of the bath seat standard, ASTM F1967-11a. In accordance with Public Law 112-28, the revised standard was considered a consumer product safety standard issued by the Commission in the absence of a notification to ASTM of a Commission determination that the proposed revision did not improve safety. The Commission published a final rule incorporating by reference the revised bath seat standard, ASTM F1967-11a, as the Commission's standard for infant bath seats. 77 FR 4542 (July 31, 2012).

Subsequently, ASTM notified us on September 25, 2013, that ASTM has revised ASTM's infant bath seat standard again; the current ASTM standard is ASTM F1967-13.

There are several differences between ASTM F1967-11a, the version that CPSC currently mandates as the safety standard for bath seats, and the revised voluntary standard, ASTM F1967-13. In this section of the preamble, we summarize those differences.

Attachment Components. The 2013 version of the ASTM standard contains a new definition and requirement for attachment components. The requirement specifies that all components needed to attach the bath seat to the bath tub (attachment components) must be permanently attached to the bath seat. Staff is aware of a bath seat design that provides some attachment components that are separate from the bath seat. With this design, consumers must install the attachment components, consisting of adhesive discs, on to the bath tub surface. If the consumer fails to install the adhesive discs or fails to install them properly, these bath seats pose a tip over hazard. We believe requiring all attachment components to be permanently attached to the bath seats will increase the safety of bath seats.

Test Surface Preparation. ASTM F1967-11a specifies that bath seats be tested for stability on two specific test surfaces and also provides specific directions for preparing the test surfaces. Staff is aware of third party testing laboratories that interpreted one step in the testing preparation directions differently than ASTM intended. Following this alternate interpretation, the testing laboratory provided passing test results for some bath seats that otherwise would not have passed the stability requirement. Therefore, ASTM changed this section of the standard to specify more clearly test surface preparation. We believe this change will improve the safety of bath seats because the revised provision would prevent bath seats that should, in ASTM's view, be deemed non-complying from passing the requirement in the future.

Definition of a Bath Seat/Restraints Systems. In 2011, ASTM changed the definition of a “bath seat” to specify better the type of support that a bath seat provides. Before the ASTM F1967-11a version, the definition of “bath seat” did not specify the type of support the product provided. The revised (and current) definition states that a bath seat provides, at a minimum, support to the front and back of a seated infant. Thus, a product with only back support is no longer considered a bath seat. ASTM F1967-13 removes a provision that applied to bath seats with only back support because the provision is no longer relevant, given the current definition of “bath seat” as a product with front and back support. This change thus removes an obsolete provision.

Suction Cup Requirements. ASTM clarified two requirements for testing bath seats that use suction cups. The standard provides two suction cup test requirements: One provision evaluates the attachment between the suction cups and the test surface; the other evaluates the attachment of the suction cups to the bath seat itself. The first difference between the two versions clarifies the test requirement to emphasize that the bath seat must actually attach to the test surfaces as part of the test. The second difference specifies that this particular test only needs to be performed on one of the two test surfaces. Both revisions are clarifications.

Markings and Labeling. ASTM made two minor changes to labeling requirements. One revision changed the test for label permanency to the relative humidity (RH) to be a range rather than a specific RH. Staff considers this a practical change that is needed because producing an exact RH for the test is difficult. The second change to the labeling requirements removes the word “adult” before the term “caregiver” in a provision that requires a warning to “be located on the product so that it is visible to the [adult] caregiver.”

Assessment. Except for the revisions for attachment components and test surface preparation, the revisions discussed above do not make any substantial change to the standard. Staff's opinion is that the new requirement for attachment components and the change to the test surface preparation provision will improve the safety of the bath seats. As a result, the Commission did not determine or notify ASTM that the revised standard does not improve the safety of infant seats.

In accordance with Public Law 112-28, the revised ASTM standard for infant bath seats therefore becomes the new CPSC standard 180 days after the date the CPSC received notification of the revision from ASTM. This rule revises the incorporation by reference at 16 CFR part 1215, to reference the revised ASTM standard, ASTMF1967-13.

2. Toddler Beds

Background. On April 20, 2011, the Commission published a final rule for toddler beds that incorporated by reference ASTM F1821-09, Standard Consumer Safety Specification for Toddler Beds, with several modifications to make the standard more stringent. 76 FR 22019 (correction notice, 76 FR 27882 (May 13, 2011)). On May 16, 2012, ASTM notified the Commission that ASTM had revised ASTM's toddler bed standard and published ASTM F1821-11b. The CPSC reviewed the revised standard and concluded that the revision, ASTM F1821-11b, did not improve the safety of toddler beds. The revised standard contained several provisions for guardrail height and guardrail strength that were less stringent than the CPSC's existing standard in 16 CFR part 1217. The Commission retained ASTM F1821-09 as the standard incorporated by reference into the CPSC's mandatory standard at 16 CFR part 1217. The staff briefing package discussing staff's review of ASTM F1821-11b is posted on the Commission's Web site at: http://www.cpsc.gov/Global/Newsroom/FOIA/CommissionBriefingPackages/2012/ASTMRevisioinstoSafetyStandardsforDurableInfantToddlerProducts.pdf.

Revised Standard. On September 25, 2013, ASTM notified the Commission that ASTM has revised ASTM F1821 again and has published a new version, ASTM F1821-13. This version contains 12 significant changes from ASTM F1821-09. These changes bring the ASTM standard into accord with the CPSC's mandatory standard for toddler beds at 16 CFR part 1217.

Assessment. Staff has concluded that the revised standard, ASTM F1821-13, is neutral with respect to safety as compared to the prior standard. Staff recommends that the Commission allow the ASTM revisions to the toddler bed standard to become the CPSC-mandated standards.

Nothing in Section 104 obligates the Commission to make a determination that safety is not improved or to notify the applicable standards organization accordingly. As a result, where a proposed revision to the voluntary standard does not impact safety, the Commission has the discretion to make no determination, which would result in the revised voluntary standard becoming the applicable consumer product safety standard. In the toddler bed situation, because the revised standard is neutral with respect to safety, a determination by the Commission under the statute is not warranted and the revised voluntary standard will therefore become effective as a consumer product safety standard pursuant to the statute. The revisions bring ASTM F1821 into accord with the CPSC's regulation in 16 CFR part 1217.

In accordance with Public Law 112-28, the revised ASTM standard for toddler beds becomes the new CPSC standard on March 24, 2014, which is 180 days after the date we received notification of the revision from ASTM. The rule the Commission issues today revises the incorporation by reference at 16 CFR part 1217 to reference the revised ASTM standard, ASTMF1821-13.

3. Full-Size Cribs

Background. On December 28, 2010, the Commission published a final rule for full-size cribs that incorporated by reference ASTM F1169-10, Standard Consumer Safety Specification for Full-Size Baby Cribs, along with two modifications. On May 16, 2012, ASTM notified the CPSC that ASTM had published a revised 2011 version of ASTM's standard, ASTM F1169-11. The CPSC reviewed the revised standard and determined that the revision, ASTM F1169-11, was essentially identical to the full-size crib standard that the Commission mandated at 16 CFR part 1219. Staff's briefing package is available at http://www.cpsc.gov/Global/Newsroom/FOIA/CommissionBriefingPackages/2012/ASTMRevisioinstoSafetyStandardsforDurableInfantToddlerProducts.pdf. In accordance with Pub. L. 112-28, the Commission published a final rule that incorporated by reference the revised full-size crib standard, ASTM F1169-11, as the Commission's standard for full-size cribs. 77 FR 4542 (July 31, 2012). As noted above, ASTM notified us on September 25, 2013, that ASTM again has revised ASTM's full-size crib standard; the current ASTM standard is ASTM F1169-13.

Revised Standard. The revised standard, ASTM F1169-13, differs from ASTM F1169-11 (the current CPSC standard) in one aspect that is reflected in two sections of the revised standard. ASTM F1169-11 requires that before and after testing a crib, the crib must comply with all general requirements of the standard. These general requirements address the distance between slats. However, the specific testing procedure for slats allows for one slat to fail during testing if the load at failure is at least 60 pounds and an additional 25 percent of the slats are tested and meet the 80-pound force requirement. Thus, a tested crib potentially could comply with the specific testing procedures for slats even if a slat failed during testing, but not meet the general slat spacing requirements because of the failed slat. In that situation, the crib would not comply with the requirements in the current standard because the crib would not meet all of the general requirements after the crib had been tested.

The revised standard, ASTM F1169-13, provides an exception for this specific situation so that a crib's failure to meet the slat spacing requirement under the testing circumstances described above would not cause the crib to be considered noncompliant.

Assessment. The revision clarifies the intent of the ASTM standard and removes an unintended inconsistency. The revision does not change the substantive requirements of the standard.

As previously noted, the Commission is not obligated to make a determination that safety is not improved or to notify the applicable standards organization accordingly. As a result, where a proposed revision to the voluntary standard does not impact safety, the Commission has the discretion to make no determination, which would result in the revised voluntary standard becoming the applicable consumer product safety standard. In the crib situation, because the revised standard is neutral with respect to safety, a determination by the Commission under the statute is not warranted. The revised voluntary standard will therefore become effective as a consumer product safety standard pursuant to the statute.

In accordance with Public Law 112-28, the revised ASTM standard for full-size cribs becomes the new CPSC standard on March 24, 2014, which is 180 days after the date the CPSC received notification of the revision from ASTM. This rule revises the incorporation by reference at 16 CFR part 1219, to reference the revised ASTM standard, ASTM F1169-13.

C. Direct Final Rule Process

The Commission is issuing this rule as a direct final rule. Although the Administrative Procedure Act (APA) generally requires notice and comment rulemaking, section 553 of the APA provides an exception when the agency, for good cause, finds that notice and public procedure are “impracticable, unnecessary, or contrary to the public interest.” The Commission concludes that in the context of these revisions to ASTM standards upon which CPSC's durable infant or toddler product standards are based, which automatically become consumer product standards and which simply would be incorporated by reference into applicable regulatory provisions, notice and comment is not necessary.

Without Commission action to update the incorporation by reference in the CPSC's mandated standards, the standard published in the Code of Federal Regulations will not reflect the revised ASTM standard that will be in effect by operation of law under Public Law 112-28. For accuracy and to avoid misleading the public as to the applicable consumer product standard, the Commission believes that issuing a rule revising the incorporation by reference in these circumstances is appropriate. In Recommendation 95-4, the Administrative Conference of the United States (ACUS) endorsed direct final rulemaking as an appropriate procedure to expedite promulgation of rules that are noncontroversial and that are not expected to generate significant adverse comment. See 60 FR 43108 (August 18, 1995). Consistent with the ACUS recommendation, the Commission is publishing this rule as a direct final rule because we do not expect any significant adverse comments.

Revising the regulatory references to the ASTM standards will conform the regulation to the substantive change in the applicable consumer product standard that will occur by operation of law under Public Law 112-28. Public comment will not impact the substantive changes to the standards or the effect of the revised standards as consumer product safety standards under Public Law 112-28. Therefore, there is little for the public to comment upon.

Unless we receive a significant adverse comment within 30 days, the rule will become effective on March 24, 2014. In accordance with ACUS's recommendation, the Commission considers a significant adverse comment to be one where the commenter explains why the rule would be inappropriate, including an assertion challenging the rule's underlying premise or approach, or a claim that the rule would be ineffective or unacceptable without change.

Should the Commission receive a significant adverse comment, the Commission would withdraw this direct final rule. Depending on the comments and other circumstances, the Commission may then incorporate the adverse comment into a subsequent direct final rule or publish a notice of proposed rulemaking, providing an opportunity for public comment.

D. Effective Date

Under the procedure set forth in Public Law 112-28, when a voluntary standard organization revises a standard upon which a consumer product safety standard issued under the Danny Keysar Child Product Safety Notification Act was based, the revision becomes the CPSC standard within 180 days of notification to the Commission, unless the Commission determines that the revision does not improve the safety of the product, or the Commission sets a later date in the Federal Register. In accordance with this provision, this rule establishes an effective date that is 180 days after we received notification from ASTM of revisions to these standards. As discussed in the preceding section, this is a direct final rule. Unless the Commission receives a significant adverse comment within 30 days, the rule will become effective on March 24, 2014.

E. Regulatory Flexibility Act

The Regulatory Flexibility Act (RFA) generally requires that agencies review proposed and final rules for the rules' potential economic impact on small entities, including small businesses, and prepare regulatory flexibility analyses. 5 U.S.C. 603 and 604. The changes to the incorporation by reference in the infant bath seat, toddler bed, and full-size crib standards reflect changes made by operation of law under Public Law 112-28. Therefore, the rule will not have any economic impact on small entities.

F. Environmental Considerations

The Commission's regulations provide a categorical exclusion for the Commission's rules from any requirement to prepare an environmental assessment or an environmental impact statement because they “have little or no potential for affecting the human environment.” 16 CFR 1021.5(c)(2). This rule falls within the categorical exclusion, so no environmental assessment or environmental impact statement is required.

G. Paperwork Reduction Act

The infant bath seat, toddler bed, and full-size crib standards contain information-collection requirements under the Paperwork Reduction Act of 1995 (44 U.S.C. 3501-3520). No changes have been made to those sections of the standards. Thus, these revisions will not have any effect on the information-collection requirements related to those standards.

H. Preemption

Section 26(a) of the CPSA, 15 U.S.C. 2075(a), provides that where a “consumer product safety standard under [the Consumer Product Safety Act (CPSA)]” is in effect and applies to a product, no state or political subdivision of a state may either establish or continue in effect a requirement dealing with the same risk of injury unless the state requirement is identical to the federal standard. Section 26(c) of the CPSA also provides that states or political subdivisions of states may apply to the Commission for an exemption from this preemption under certain circumstances.

The Danny Keysar Child Product Safety Notification Act (at section 104(b)(1)(B) of the CPSIA) refers to the rules to be issued under that section as “consumer product safety standards,” thus, implying that the preemptive effect of section 26(a) of the CPSA would apply. Therefore, a rule issued under section 104 of the CPSIA will invoke the preemptive effect of section 26(a) of the CPSA when it becomes effective.

I. Certification

Section 14(a) of the CPSA imposes the requirement that products subject to a consumer product safety rule under the CPSA, or to a similar rule, ban, standard, or regulation under any other act enforced by the Commission, be certified as complying with all applicable CPSC requirements. 15 U.S.C. 2063(a). Such certification must be based on a test of each product, or on a reasonable testing program or, for children's products, on tests on a sufficient number of samples by a third party conformity assessment body (test laboratory) accredited by the Commission to test according to the applicable requirements. As noted in the preceding discussion, standards issued under section 104(b)(1)(B) of the CPSIA are “consumer product safety standards.” Thus, they are subject to the testing and certification requirements of section 14 of the CPSA.

Because infant bath seats, toddler beds, and full-size cribs are children's products, samples of these products must be tested by a third party conformity assessment body whose accreditation has been accepted by the Commission. These products also must comply with all other applicable CPSC requirements, such as the lead content requirements of section 101 of the CPSIA, the tracking label requirement in section 14(a)(5) of the CPSA, and the consumer registration form requirements in the Danny Keysar Child Product Safety Notification Act.

J. Notice of Requirements

In accordance with section 14(a)(3)(B)(iv) of the CPSIA, the Commission has previously published NORs for accreditation of third party conformity assessment bodies for testing infant bath seats (75 FR 31688 (June 4, 2010)); toddler beds (76 FR 22030 (April 20, 2011)); and full-size cribs (75 FR 81789 (December 28, 2010)). The NORs provided the criteria and process for our acceptance of accreditation of third party conformity assessment bodies for testing infant bath seats to 16 CFR part 1215; for testing toddler beds to 16 CFR part 1217; and for testing full-size cribs to 16 CFR part 1219. These NORs are listed in the Commission's rule, “Requirements Pertaining to Third Party Conformity Assessment Bodies.” 16 CFR part 1112.

The revisions discussed above do not add any new provisions that would require a third party conformity assessment body (testing laboratory) to conduct additional tests. As discussed above, the infant bath seat revision adds a requirement that attachment components must be permanently attached to the bath seat. Although this is a new requirement, the revision does not involve a new test, only a brief evaluation. The revisions to the toddler bed standard bring the ASTM standard into accord with the CPSC standard. Thus, the revised toddler bed standard will not change existing test methods. The revision to the full-size crib standard is a clarification and will not change the existing test methods in that standard.

Revising the references for the infant bath seat, toddler bed, and full-size crib standards will not necessitate any change in the way that third party conformity assessment bodies test these products for compliance to CPSC standards. Therefore, the Commission considers the existing accreditations that the Commission has accepted for testing to these standards also to cover testing to the revised standards. The existing NORs for these standards remain in place, and CPSC-accepted third party conformity assessment bodies are expected to update the scope of the testing laboratories' accreditation to reflect the revised standards in the normal course of renewing their accreditation.

List of Subjects in 16 CFR Parts 1215, 1217, and 1219

Consumer protection, Incorporation by reference, Imports, Infants and children, Law enforcement, Safety, Toys.

For the reasons stated above, the Commission amends 16 CFR chapter II as follows:

PART 1215—SAFETY STANDARD FOR INFANT BATH SEATS

1. The authority citation for part 1215 is revised to read as follows:

Authority: Sec. 104, Pub. L. 110-314, 122 Stat. 3016 (August 14, 2008); Sec. 3, Pub. L. 112-28, 125 Stat. 273 (August 12, 2011).

2. Revise § 1215.2 to read as follows:

§ 1215.2 Requirements for infant bath seats.

Each infant bath seat shall comply with all applicable provisions of ASTM F1967-13, Standard Consumer Safety Specification for Infant Bath Seats, approved on August 1, 2013. The Director of the Federal Register approves the incorporation by reference listed in this section in accordance with 5 U.S.C. 552(a) and 1 CFR part 51. You may obtain a copy of these ASTM standards from ASTM International, 100 Barr Harbor Drive, P.O. Box C700, West Conshohocken, PA 19428-2959 USA, telephone: 610-832-9585; http://www.astm.org/. You may inspect copies at the Office of the Secretary, U.S. Consumer Product Safety Commission, Room 820, 4330 East West Highway, Bethesda, MD 20814, telephone 301-504-7923, or at the National Archives and Records Administration (NARA). For information on the availability of this material at NARA, call 202-741-6030, or go to: http://www.archives.gov/federal_register/code_of_federal regulations/ibr_locations.html.

PART 1217—SAFETY STANDARD FOR TODDLER BEDS

3. The authority citation for part 1217 is revised to read as follows:

Authority: Sec. 104, Pub. L. 110-314, 122 Stat. 3016 (August 14, 2008); Sec. 3, Pub. L. 112-28, 125 Stat. 273 (August 12, 2011).

4. Revise § 1217.2 to read as follows:

§ 1217.2 Requirements for toddler beds.

Each toddler bed shall comply with all applicable provisions of ASTM F1821-13, Standard Consumer Safety Specification for Toddler Beds, approved on June 1, 2013. The Director of the Federal Register approves this incorporation by reference in accordance with 5 U.S.C. 552(a) and 1 CFR part 51. You may obtain a copy from ASTM International, 100 Barr Harbor Drive, P.O. Box 0700, West Conshohocken, PA 19428; telephone 610-832-9585; www.astm.org. You may inspect a copy at the Office of the Secretary, U.S. Consumer Product Safety Commission, Room 820, 4330 East West Highway, Bethesda, MD 20814, telephone 301-504-7923, or at the National Archives and Records Administration (NARA). For information on the availability of this material at NARA, call 202-741-6030, or go to: http://www.archives.gov/federal_register/code_of_federal_regulations/ibr_locations.html.

PART 1219—SAFETY STANDARD FOR FULL-SIZE BABY CRIBS

5. The authority citation for part 1215 is revised to read as follows:

Authority: Sec. 104, Pub. L. 110-314, 122 Stat. 3016 (August 14, 2008); Sec. 3, Pub. L. 112-28, 125 Stat. 273 (August 12, 2011).

6. Revise § 1219.2 to read as follows:

§ 1219.2 Requirements for full-size baby cribs.

Each full-size baby crib shall comply with all applicable provisions of ASTM F1169-13, Standard Consumer Safety Specification for Full-Size Baby Cribs, approved May 1, 2013. The Director of the Federal Register approves this incorporation by reference in accordance with 5 U.S.C. 552(a) and 1 CFR part 51. You may obtain a copy from ASTM International, 100 Barr Harbor Drive, P.O. Box 0700, West Conshohocken, PA 19428; telephone 610-832-9585; www.astm.org. You may inspect a copy at the Office of the Secretary, U.S. Consumer Product Safety Commission, Room 820, 4330 East West Highway, Bethesda, MD 20814, telephone 301-504-7923, or at the National Archives and Records Administration (NARA). For information on the availability of this material at NARA, call 202-741-6030, or go to: http://www.archives.gov/federal_register/code_of_federal_regulations/ibr_locations.html.

Dated: December 3, 2013.
Todd A. Stevenson,
Secretary, U.S. Consumer Product Safety Commission.

[FR Doc. 2013-29226 Filed 12-6-13; 8:45 am]

BILLING CODE 6355-01-P